DEPARTMENT OF HEALTH AND HUMAN SERVICES

Centers for Disease Control and Prevention

[Program Announcement 02198]

International Programs To Prevent and Control Micronutrient Malnutrition; Notice of Availability of Funds

A. Purpose

The Centers for Disease Control and Prevention (CDC) announces the availability of fiscal year (FY) 2002 funds for a cooperative agreement program for the international prevention and control of micronutrient malnutrition.

The purpose of this program is to achieve the elimination of micronutrient malnutrition, especially iron, iodine and vitamin A deficiencies by: Component 1 supporting and strengthening program development, epidemiology, laboratory, intervention, and communications capacity of nutrition/micronutrient programs in selected countries through regional strategies activities, including distribution of vitamin A capsules, iron, and folic acid supplements to target populations worldwide; component 2 developing and implementing program policy and standards, maintaining relationships with ministries of health (MOH) and other policy makers, and setting international standards for nutritional status; component 3 testing the usefulness of the micronutrient version of CDCynergy as a planning, training or evaluation tool for developing countries participating in national or regional food fortification and supplementation programs.

B. Authority and Catalog of Federal Domestic Assistance Number

This program is authorized under section 301(a) and 317(k)(2) of the Public Health Service Act, (42 U.S.C. 247b(k)(2)), as amended. The Catalog of Federal Domestic Assistance number is 93.945.

C. Eligible Applicants

Assistance will be provided only to those potential applicants that are eligible as described below:

All components must involve work with developing countries only.

Eligibility for Component 1

Assistance will be provided only to the United Nations Children's Fund (UNICEF), New York, New York. No other applications are solicited.

UNICEF is the only organization that has country-based offices to support direct delivery of public health programs and services in nearly every country in the world. Additionally, UNICEF's mandate also address educational related health issues. This focus has enabled UNICEF programs to develop a leadership role in micronutrient deficiency intervention programs across multiple sectors of society because of the significant impact of such programs on health and population-based health education. In addition to national offices, UNICEF supports sub-national programs which provide direct access to local public health and education programs.

UNICEF supports micronutrient deficiency intervention programs around the world through the distribution of vitamin A capsules, as well as iron and folic acid supplements to target populations. UNICEF supports country-based salt iodization programs around the world to reduce the burden of iodine deficiency disorders.

Eligibility for Component 2

Assistance will be provided only to the World Health Organization (WHO) and its Eastern Mediterranean Regional Office (EMRO). No other applications are solicited.

WHO is the most appropriate and qualified agency to conduct the activities under this component because it is the only organization that (a) has demonstrated the necessary expertise and experience in technical, policy, and program issues relating to micronutrient malnutrition; (b) maintains relationships with MOH officials and other policy makers throughout the region; and (c) serves as the source of international standards for nutritional status, including micronutrient status.

WHO supports micronutrient malnutrition intervention programs. WHO is a partner in a global initiative to eliminate micronutrient malnutrition.

In the past ten years WHO/EMRO has made progress in working towards the prevention of iron deficiency anemia (IDA) and the elimination of iodine deficiency disorders (IDD). WHO/EMRO identified flour fortification with iron and folate as the best preventive and most sustainable strategy for IDA, as bread and other wheat-flour products are widely consumed in the countries of region. Through regional workshops, WHO/EMRO has helped countries write action plans for flour fortification with iron and folate, and at present, six countries have either begun or are in the process of beginning flour fortification. Additionally, WHO/EMRO supports country-based salt iodization programs throughout the region which has had a significant impact on reducing the burden of iodine deficiency disorders.

Eligibility for Component 3

Applicants must have a presence and/or office in a country and demonstrate the ability to implement the activity within the country.

Assistance will be provided to public and private nonprofit organizations and institutions working in developing countries; such as, educational institutions, universities, colleges, research institutions, hospitals, faith-based organizations and other organizations and institutions. Applicants must have the authorization and overall resources to implement a micronutrient program in a country or region of a country.

Note: Title 2 of the United States Code section 1611 states that an organization described in section 501(c)(4) of the Internal Revenue Code that engages in lobbying activities is not eligible to receive Federal funds constituting an award, grant or loan.

Special Guidelines for Technical Assistance Conference Call

Technical assistance will be available for potential applicants for Component 3 on a conference call to be held August 6, 2002 at 8:30 a.m. Eastern Standard Time.

Potential applicants are requested to call in using only one telephone line. The conference call can be accessed by calling 1-800-311-3437 (Federal call (404) 639-3277) and entering access code 750237. The purpose of the conference call is to help potential applicants to:

1. Understand the scope and intent of the program Announcement for the International Micronutrient Malnutrition Program.

2. Be familiar with the Public Health Service's funding policies and application and review procedures.

Participation in this conference call is not mandatory. At the time of the call, if you have problems accessing the call, contact 404-639-7550.

D. Availability of Funds

Approximately 1,900,000 is available in FY 2002 to fund approximately four awards.

Component Funding

Approximately $1,400,000 is available in FY 2002 to fund UNICEF (Component 1) and WHO (Component 2). It is expected that $1,000,000 will be awarded for component 1 and $400,000 will be available for Component 2. Approximately $500,000 is available in FY 2002 to fund two awards under Component 3. The average award for Component 3 is expected to be $250,000.

Matching funds are not required for this program.

It is expected that awards under this program announcement will begin on or about September 30, 2002 and will be made for a 12-month budget period within a project period of one year. Funding estimates may change.

Use of Funds

1. Cooperative agreement funds may be used to support personnel and to purchase equipment, supplies, and services directly related to project activities consistent with the scope of the cooperative agreement. Funds provided under this program cannot be used to supplant existing program funds, provide personal health services, medications, patient rehabilitation or to support facilities construction or renovation.

2. All requests for funds, including the budget contained in the application, shall be stated in U.S. dollars. Once an award is made, the Department of Health and Human Services (DHHS) will not compensate foreign grantees for currency exchange fluctuations through the issuance of supplemental awards.

3. The costs that are generally allowable in grants to domestic organizations are likewise allowable to foreign institutions and international organizations, with the following exceptions: Indirect Costs: With the exception of the American University, Beirut, the Gorgas Memorial Institute, and the WHO, indirect costs will not be paid (either directly or through a sub-award) to organizations located outside the territorial limits of the United States or to international organizations regardless of their location, major alteration and renovation, customs and import duties, and, with limited exception, patient care.

E. Program Requirements

In conducting activities to achieve the purpose of this cooperative agreement, the recipient will be responsible for conducting the activities under 1. Recipient Activities, and CDC will be responsible for the activities listed under 2. CDC Activities.

1. Recipient Activities for Component 1

a. Identify, prioritize and support developing countries based on demonstration of interest and commitment of government to support population-based micronutrient deficiency interventions. Through surveys, assess the burden of micronutrient deficiencies, in support of recognized population-based intervention strategies, (i.e. food fortification and/or micronutrient supplementation). Assessment projects may include (1) an analysis of quantitative and qualitative data to determine micronutrient status and needs of populations; (2) assess relevant knowledge, attitudes and practices of target populations, health professionals and programs, and other relevant entities; (3) assess the infrastructure needed for various intervention strategies; and (4) allow for basic formative research needed for health communication strategies.

b. Survey data should be used for program development and determination of baseline data on process and/or impact indicators to allow for intervention program monitoring and assessing impact on micronutrient status of the population.

c. Identify, prioritize, and support developing countries to design and implement innovative surveillance systems to monitor and evaluate the process of the intervention programs (e.g. quality control of fortified foods at production, retail and/or household level; and population coverage of intervention program) and their impact on the micronutrient status of the population. Developing countries should: (1) Implement or have existing population-based micronutrient deficiency intervention programs, specifically, food fortification or universal supplementation strategies, and (2) demonstrate national support for surveillance system maintenance after initial development.

d. Support selected country programs to plan, implement and evaluate population-based intervention strategies to prevent and control iron deficiency among preschool children (especially 6-24 months old) with an emphasis on fortification of complementary foods and/or supplementation.

e. Strengthen micronutrient epidemiology and health communication capacity through training activities.

f. Identify staff personnel to be housed in selected regional office(s), to provide oversight and support for country level activities.

g. Utilize a grass roots approach to carry out micronutrients activities in selected countries.

1. Recipient Activities for Component 2

a. Develop and provide strategies for training capacity building and organizing regional training programs and strategies on surveillance and monitoring of population-based micronutrient deficiency interventions, (especially flour fortification), and for formative research in support of micronutrient communication strategies. Training should be linked to relevant follow up activities at the country levels.

b. Develop and provide guidance on food fortification and micronutrient status assessment. Provide policy, technical and other support to countries in the region in developing and carrying out micronutrient status surveys to estimate the prevalence of micronutrient deficiencies; assess relevant knowledge, attitudes and practices of target populations, health professionals and programs, and other relevant entities.

c. Provide policy and technical support for countries within a region with existing population-based micronutrient deficiency intervention programs to design and implement innovative surveillance systems to monitor the process and impact of the intervention programs, especially flour fortification.

d. Convene regional meetings to develop policy and program strategies, guidance and standards for food fortification, and micronutrient status assessment and monitoring strategies.

e. Identify staff person to be housed in selected regional office(s) to provide oversight and support to regional level activities.

1. Recipient Activities for Component 3 Activities (a) through (e) are first priority activities.

a. Conduct assessment activities to identify communication gaps and needs in a country with an existing micronutrient programs, and utilize CDCynergy for Micronutrients to create and begin implementation of a micronutrient communication plan. Activities specified in the plan should include: (1) Conduct stakeholder meetings to plan communication activities; (2) gather country- and region-specific background information on micronutrient program, in general and specific to communication; (3) conduct formative research to clarify communication goals; (4) develop communication concepts and messages to test; (5) conduct pre-testing research and pilot tests; (6) draft and disseminate creative materials (e.g. print, audio, video); (7) produce and disseminate materials; and (8) conduct process and impact evaluation at the level of behavior change. Translate the text of the existing tutorial and examples, on an as needed basis.

b. Develop performance measures to assess the overall usefulness of CDCynergy and its applicability to country or regional efforts in micronutrient communication planning.

c. Train staff at appropriate professional levels to use CDCynergy. Prepare a micronutrient communication “case-study” in a step-wise fashion, of a relevant national or regional experience to be used on future editions of CDCynergy.

d. Conduct training for students, international trainees and other learners about communication planning for nutrition programs. Prepare model curricula for multiple teaching and training situations.

e. Provide technical support on a short-term basis to manage applications of CDCynergy.

f. Establish necessary operational links with global partners in country or region in which CDCynergy is to be tested.

g. Customize CDCynergy for Micronutrients for Country/Regional Use. NOTE: This activity should be considered a secondary priority to be started after activities (a) through (f) have been completed.

Customization would begin with: (1) Translation of tutorial into a language appropriate to the target population and in common use throughout the region or country (such as, Chinese, Arabic, French, Portugese, Russian, Spanish or other widely-used language in country or region; (2) identify culturally and geographically relevant examples, drawing on the “case study” examples created during CDCynergy training workshops, of successful communication interventions for fortification or supplement distribution programs. Prepare the examples as “case study” according to CDCynergy Phases and steps. (3) identify and make available data and planning documents that support the example (e.g. Country/Regional versions of “State of the World's Children,” National planning documents for micronutrients, etc.); and (4) identify language appropriate, current references to explain methodological issues (e.g. health communication, education or health promotion theories, program evaluation).

h. Conduct model training and evaluation of “draft” version of customized version by:

(1) Identifying up to 20 persons engaged in communication planning for micronutrients;

(2) Train program staff to use CDCynergy to plan communication activities over the natural course of a communication program;

(3) Develop process measures for how CDCynergy has affected program planning, implementation or evaluation; and

(4) Evaluate training activities.

i. Finalize custom version of the appropriate revised components within CDCynergy. Based on training and program utility, develop final version of CDCynergy.

j. Develop and disseminate the new customized version of CDCynergy through training and collaborative activities with partners.

2. CDC Activities (a, b and c Applicable for Both Components and 2; d and e Applicable to Component 3)

a. Provide epidemiologic, laboratory and communications technical assistance in support of regional or country-based activities.

b. Provide technical assistance and support in development and provision of policy, guidance and standards for food fortification, micronutrient status assessment and monitoring strategies.

c. Participate in process to identify staff person(s) to be housed in selected regional offices of UNICEF and WHO.

d. Provide implementation training technical assistance, including development of Epi Info-based software to help standardize micronutrient status assessment and reporting procedures.

e. Assist in the development and dissemination of a customized version(s) of CDCynergy focused on micronutrient malnutrition.

F. Application Content

All applicants should use the information in the Program Requirements, Other Requirements, and Evaluation Criteria sections to develop the application content. Your application will be evaluated using the criteria listed, so it is important to follow them in laying out your program plan. Applications should not exceed 30 double-spaced pages, printed on one side, with one-inch margins, in 12-point font, excluding budget, justification, and appendixes. All applicants applying for component three should also submit appendices including resumes, job descriptions, organizational chart, and any other supporting documentation as appropriate. All materials must be suitable for photocopying (i.e., no audiovisual materials, posters, tapes, etc.).

Applicants must designate in the Executive Summary of their application the component (1, 2, or 3) for which they are applying. Provide the following information:

1. Executive Summary

All applicants must provide a summary of the program described in the proposal (two pages maximum).

2. Background and Need (eight pages)

Describe the need and the current resources available for component activities, to include: Development of a plan for building capacity through training and support.

a. Existing initiatives, capacity, and infrastructure (e.g. collaborations/partnerships; surveillance activities and systems; evaluation activities; information, media and health communications; and education and outreach strategies) within which elimination of micronutrient malnutrition is possible.

b. The overall country/region barriers currently faced related to developing and implementing a program for the elimination of micronutrient malnutrition.

c. The overall micronutrient malnutrition burden for the country/region.

d. Description of the need for micronutrient malnutrition funding to enhance existing efforts.

e. The gaps in resources, staffing, capabilities, and programs that, if addressed, might further the progress of the elimination of micronutrient malnutrition.

3. Staffing (not included in 20-page limitation)

Describe program staffing. Provide resumes or job descriptions for budgeted positions at regional levels.

4. Training Capacity (five pages)

Provide a description and evidence of training capabilities deemed appropriate to the program.

5. Work Plan (five pages)

The applicant should provide a detailed work plan that describes how the proposed activities will be conducted. The work plan should include the following:

a. Goals and objectives.

b. Activities planned to achieve objectives.

c. Data that will be used to assess program activities.

d. Time line for assessing progress.

e. Who is responsible for activities.

f. Overall measures of effectiveness.

6. Organizational Support (five pages)

Provide a plan for program management, including an organizational chart. Describe those positions which have oversight responsibility. Address leadership and administrative plans for the next budget period. Discuss strategies for ensuring appropriate communication among key staff on the status of program implementation, maintenance, and related issues.

7. Budget and Budget Justification

Provide a detailed line-item budget with justifications consistent with the purpose and proposed objectives.

Requested Budget Information

Applicants are urged to submit a separate budget for each component applied for in response to this program announcement: (1) A detailed budget and narrative justification that supports the activities for funding in response to this program announcement, and (2) a categorical budget consistent with budget Form 424A.

G. Submission and Deadline

Submit the original and two copies of PHS 5161-1 (OMB Number 0920-0428). Forms are available at the following Internet address: http://www.cdc.gov/od/pgo/forminfo.htm. They may also be obtained by calling the Grants Management Specialist listed in the where to obtain Additional Information Section of this announcement.

Applications must be received on or before 5:00 p.m., EST, August 29, 2002. Submit the application to:

Technical Information Management Section—PA 02198, Procurement and Grants Office, Centers of Disease Control, 2920 Brandywine Drive, Atlanta, Georgia 30341.

Applications may not be submitted electronically.

Deadline: Applications shall be considered as meeting the deadline if they are received on or before 5:00 p.m. Eastern Time on the deadline date.

Applications which do not meet the criteria above will be returned to the applicant.

H. Evaluation Criteria

Measures of Effectiveness

Applicants are required to provide measures of effectiveness that will demonstrate the accomplishment of the various identified objectives of the cooperative agreement. Measures of effectiveness must be objective and quantitative and must measure the intended outcome. These measures of effectiveness shall be submitted with the application and shall be an element of evaluation.

The applications received will be evaluated against the following component criteria and will be reviewed by an independent review group appointed by CDC.

1. All Components (1, 2, and 3) Evaluation Criteria (total 100 points)

a. Work Plan (60 Points total)

(1) The extent to which the plan for achieving the proposed activities appears realistic and feasible and relates to the stated program requirements and purposes of this cooperative agreement (30 Points).

(2) The extent to which the proposed plan for evaluating progress toward meeting objectives appears reasonable and feasible (10 Points).

(3) The degree to which the collaboration on development of a training plan with partners is demonstrated through documented and collaborative activities (10 Points).

(4) The degree to which objectives are specific, time-phased, measurable, realistic, and related to identified needs, program requirements, and purpose of the program (10 Points)

b. Staffing (20 Points)

The degree to which the proposed staff have the relevant background, qualifications, and experience; and the degree to which the organizational structure supports staffs' ability to conduct proposed activities and provide staff in country/regional areas.

c. Background and Need (10 Points)

The extent to which the applicant identifies specific needs, resources and interest (commitment of government) available for the activities and presents data justifying the need for the program in terms of the magnitude of the burden.

d. Training capacity (10 Points)

The extent to which the applicant provides evidence of other training capabilities deemed appropriate to the program.

e. Budget (Not Scored)

The extent to which the budget appears reasonable and consistent with the proposed activities and intent of the program.

f. Human Subjects

Does the application adequately address the requirements of Title 45 CFR part 46 for the protection of human subjects? (Not scored; however, an application can be disapproved if the research risks are sufficiently serious and protection against risks is so inadequate as to make the entire application unacceptable.)

I. Other Requirements

Progress Reporting Requirements

Provide CDC with original plus two copies of:

1. Semi-annual progress reports. The first report is due April 30, 2003. The final report is due 90 days after the end of the budget period. Semi-annual progress reports should include:

a. A comparison/description of actual accomplishments (narrative) to the goals established during the first six months of the budget period and should consist of no more than 20 pages.

b. The reason for which established goals were not met and strategies to be implemented to achieve unmet objectives.

c. A description of any new objectives to support the implementing of the findings from research and other assessment activities.

d. Provide measures of effectiveness to evaluate the accomplishment of the various identified objectives of the cooperative agreement. These measures must be objective and must measure the intended outcome. These measures shall be reported in semi-annual and annual progress reports.

2. Final financial and performance reports, no more than 90 days after the end of the project period.

Fiscal Reporting Requirements

a. Awardee is required to obtain annual audit of these CDC funds (program-specific audit) by a U.S. based audit firm with International branches and current licensure/authority in country, and in accordance with International Accounting Standards or equivalent standard(s) approved in writing by CDC.

b. A Fiscal Recipient Capability Assessment may be required, pre or post award, with potential awardee in order to review their business management and fiscal capabilities regarding the handling of U.S. Federal funds.

Send all reports to the Grants Management Specialist identified in the “Where To Obtain Additional Information” Section of this announcement.

The following additional requirements are applicable to this program. For a complete description of each, see Attachment I of the announcement.

AR-1 Human Subjects Requirements

AR-9 Paperwork Reduction Act Requirements

AR-10 Smoke-Free Workplace Requirements

AR-12 Lobby Restrictions

AR-14 Accounting System Requirements

AR-15 Proof of Non-Profit Status

J. Where To Obtain Additional Information

This and other CDC announcements can be found on the CDC Home page Internet address— http://www.cdc.gov. Click on “Funding” then “Grants and Cooperative Agreements.”

If you have questions after reviewing the contents of all the documents, business management technical assistance may be obtained from: Cynthia Collins, Grants Management Specialist, International/Territories Acquisition and Assistance Branch, Procurement and Grants Office, Program Announcement 02198, Centers for Disease Control and Prevention (CDC), 2920 Brandywine Rd., Room 3000, Atlanta, GA 30341-5539, Telephone: 770-488-2757, E-mail address: coc9@cdc.gov.

For program technical assistance, for Components 1 and 2 contact: Dan Sadler, Deputy Director, Division of Nutrition and Physical Activity, Centers for Disease Control and Prevention, 4770 Buford Highway, NE., MS K-24, Atlanta, GA 30341, Telephone number: 770-488-6042, FAX: 770-488-6000, E-mail address: mds1@CDC.Gov.

For program technical assistance, for Component 3 contact: Dr. Claudia Parvanta, Director, Division of Health Communications, Centers for Disease Control and Prevention, 1600 Clifton Road, NE., MS D-42, Atlanta, GA 30333, Telephone number: 404-639-7281, FAX: 404-639-7391, E-mail address: cip0@cdc.gov.

Dated: July 24, 2002.
Rebecca B. O'Kelley,
Acting Director, Procurement and Grants Office, Centers for Disease Control and Prevention.

[FR Doc. 02-19169 Filed 7-29-02; 8:45 am]

BILLING CODE 4163-18-P